DEPARTMENT OF HEALTH AND HUMAN SERVICES

Centers for Medicare & Medicaid Services

[CMS-1415-N]

Medicare Program; Announcement of Five New Members to the Advisory Panel on Ambulatory Payment Classification Groups

AGENCY: Centers for Medicare & Medicaid Services (CMS), Department of Health and Human Services (DHHS).

ACTION: Notice.

SUMMARY: This notice announces five new members selected to serve on the Advisory Panel on Ambulatory Payment Classification (APC) Groups (the Panel). The purpose of the Panel is to review the APC groups and their associated weights and to advise the Secretary of DHHS (the Secretary) and the Administrator of CMS (the Administrator) concerning the clinical integrity of the APC groups and their associated weights. We will consider the Panel's advice as we prepare the annual updates of the hospital outpatient prospective payment system (OPPS).

FOR FURTHER INFORMATION CONTACT: For inquiries about the Panel, please contact the Designated Federal Official (DFO): Shirl Ackerman-Ross, DFO, CMS, CMM, HAPG, DOC, 7500 Security Boulevard, Mail Stop C4-05-17, Baltimore, MD 21244-1850, Phone (410) 786-4474.

APC Panel E-Mail Address: The E-mail address for the Panel is as follows: CMS APCPanel@cms.hhs.gov (Note: There is NO underscore in this e-mail address; there is a SPACE between CMS and APCPanel.)

News Media Contact: News media representatives must contact our Public Affairs Office at (202) 690-6145.

CMS Advisory Committees Hotlines: The CMS Federal Advisory Committee Hotline is 1-877-449-5659 (toll free) and (410) 786-9379 (local) for additional Panel information.

Web Sites: For additional information regarding the APC Panel membership, meetings, agendas, and updates to the Panel's activities, please search our Web site at the following Uniform Resource Locator (URL): http://www.cms.hhs.gov/FACA/05_AdvisoryPanelonAmbulatoryPaymentClassificationGroups.asp#TopOfPage. (Note: There is an UNDERSCORE after FACA/05 (like this_); there is no space.)

The public may also access the following URL for the Federal Advisory Committee Act Web site to obtain APC Panel information: https://www.fido.gov/facadatabase/public.asp. A copy of the Panel's Charter and other pertinent information are on both Web sites mentioned above. You may also e-mail the Panel DFO at the above e-mail address for a copy of the Charter.

SUPPLEMENTARY INFORMATION:

I. Background

The Secretary is required by section 1833(t)(9)(A) of the Social Security Act (the Act) to consult with an expert outside advisory Panel regarding the clinical integrity of the APC groups and relative payment weights that are components of the Medicare hospital OPPS.

The APC Panel meets up to three times annually. The Charter requires that the Panel must be fairly balanced in its membership in terms of the points of view represented and the functions to be performed. The Panel consists of up to 15 members, who are representatives of providers, and a Chair. Each Panel member must be employed full-time by a hospital, hospital system, or other Medicare provider subject to payment under the OPPS. The Secretary or Administrator selects the Panel membership based upon either self-nominations or nominations submitted by Medicare providers and other interested organizations. All members must have technical expertise to enable them to participate fully in the work of the Panel. This expertise encompasses hospital payment systems; hospital medical-care delivery systems; provider billing systems; APC groups, Current Procedural Terminology codes, and alpha-numeric Healthcare Common Procedure Coding System codes; and the use of, and payment for, drugs and medical devices in the outpatient setting, as well as other forms of relevant expertise.

The Charter requires that all members have a minimum of 5 years experience in their area(s) of expertise, but it is not necessary that any member be an expert in all of the areas listed above. For purposes of this Panel, consultants and independent contractors are not considered as being full-time employees of hospitals, hospital systems, or other Medicare providers that are paid under the Medicare hospital OPPS. A Panel member may serve up to a 4-year term. A member may serve after the expiration of his or her term until a successor has been sworn in. All terms are contingent upon the renewal of the Panel's Charter by appropriate action before its termination. The Secretary re-chartered the APC Panel effective November 21, 2008.

II. Announcement of New Members

The Panel may consist of a Chair and up to 15 Panel members who serve without compensation, according to an advance written agreement. Travel, meals, lodging, and related expenses for the meeting are reimbursed in accordance with standard Government travel regulations. We have a special interest in ensuring that women, minorities, representatives from various geographical locations, and the physically challenged are adequately represented on the Panel.

The Secretary, or her designee, appoints new members to the Panel from among those candidates determined to have the required expertise. New appointments are made in a manner that ensures a balanced membership.

The Panel presently consists of the following 15 members and a Chair. (The asterisk [*] indicates a Panel member whose term expires on 08/16/2009.)

• Edith Hambrick, M.D., J.D., Chair.

• Gloryanne Bryant, B.S., R.H.I.A., R.H.I.T., C.C.S.*

• Kathleen M. Graham, R.N., M.S.H.A., C.P.H.Q.

• Patrick Grusenmeyer, Sc.D., M.P.A., F.A.C.H.

• Judith T. Kelly, B.S.H.A., R.H.I.T., R.H.I.A., C.C.S.

• Michael D. Mills, Ph.D., M.S.P.H.

• Thomas M. Munger, M.D., F.A.C.C.*

• Agatha L. Nolen, D.Ph., M.S.

• Randall A. Oyer, M.S.

• Beverly Khnie Philip, M.D.

• Russ Ranallo, M.S.

• James V. Rawson, M.D.*

• Michael A. Ross, M.D., F.A.C.E.P.

• Patricia Spencer-Cisek, M.S., A.P.R.N.-BC, A.O.C.N.®

• Kim Allan Williams, M.D., F.A.C.C., F.A.B.C.*

• Robert Matthew Zwolak, M.D., PhD, F.A.C.S.*

On December 22, 2008, we published the notice titled “Medicare Program; Request for Nominations to the Advisory Panel on Ambulatory Payment Classification Groups” (CMS-1411-N) in the Federal Register (FR) requesting nominations to the Panel replacing Panel members whose terms would expire on August 16, 2009. As a result of that FR notice, we are announcing five new members to the Panel. All five appointments are for 4-year terms commencing on October 1, 2009, as indicated below:

NEW panel members | Terms
Ruth L. Bush, M.D., M.P.H | 10/1/2009-9/30/2013
Gregory J. Przybylski, M.D | 10/1/2009-9/30/2013
David Halsey, M.D | 10/1/2009-9/30/2013
Dawn L. Francis, M.D., M.H.S | 10/1/2009-9/30/2013
Daniel Pothen, M.S., R.H.I.A., CPHIMS, CCS, CCS-P, CHC | 10/1/2009-9/30/2013

Note: Dr. Bush replaces Dr. Zwolak; Dr. Przybylski replaces Dr. Williams; Dr. Halsey replaces Dr. Rawson; Dr. Francis replaces Dr. Munger; and Mr. Pothen replaces Ms. Bryant. They will all take the Oaths of Office at the winter 2010 APC Panel meeting. Therefore, the current APC Panel members are all invited to attend the 2009 late summer meeting since the new members' terms do not begin until October 1, 2009.

(Catalog of Federal Domestic Assistance Program No. 93.773, Medicare—Hospital Insurance; and Program No. 93.774, Medicare—Supplementary Medical Insurance Program).

Dated: July 14, 2009.
Charlene Frizzera,
Acting Administrator, Centers for Medicare & Medicaid Services.

[FR Doc. E9-17609 Filed 7-23-09; 8:45 am]

BILLING CODE 4120-01-P